DEPARTMENT OF LABOR

Employment and Training Administration

Agency Information Collection Activities; Comment Request; Agricultural Recruitment System Forms Affecting Migratory Farm Workers

ACTION: Notice.

SUMMARY: The Department of Labor's (DOL) Employment and Training Administration (ETA) is soliciting comments concerning a proposed extension for the authority to conduct the information collection request (ICR) titled, Agricultural Recruitment System Forms Affecting Migratory Farm Workers.” This comment request is part of continuing Departmental efforts to reduce paperwork and respondent burden in accordance with the Paperwork Reduction Act of 1995 (PRA).

DATES: Consideration will be given to all written comments received by June 9, 2023.

ADDRESSES: A copy of this ICR with applicable supporting documentation, including a description of the likely respondents, proposed frequency of response, and estimated total burden, may be obtained free by contacting Laura Tramontana by telephone at 202- 693-0383 (this is not a toll-free number), TTY 1-877-889-5627 (this is not a toll-free number), or by email at NMA@dol.gov.

Submit written comments about, or requests for a copy of, this ICR by mail or courier to the U.S. Department of Labor, Employment and Training Administration, Office of Workforce Investment, Room C 4510, 200 Constitution Avenue NW, Washington, DC 20210; by email: 202-693-0383; or by fax: 202-693-3890.

FOR FURTHER INFORMATION CONTACT: Laura Tramontana by telephone at 202-693-0383 (this is not a toll-free number) or by email at NMA@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

State Workforce Agencies (SWAs) are required by Federal regulations at 20 CFR 653.500 to participate in the intrastate and interstate clearance system for the orderly recruitment and movement of agricultural workers. Regulations 653.501(a),(b),(c) and (d) enumerate the contents of these orders. The Employment and Training Administration (ETA) created the Agricultural Clearance Order (Form ETA-790) for the recruitment of workers beyond the local commuting area (20 CFR 653.501). Per 29 CFR 95.53(b), the record retention for Form ETA-790 is three years from the date of submission of the final expenditure report as authorized by DOL.

Under this ICR, ETA is proposing to renew the current Agricultural Clearance Order Form ETA-790 and the Agricultural Clearance Order Form ETA-790B, without changes. Employers and SWAs use these forms to process non-criteria clearance orders, which are not placed in connection with the H-2A visa program. Employers seeking to use non-criteria clearance orders to recruit U.S. workers to perform farmwork on a temporary, less than year-round basis must: (1) complete Form ETA-790; (2) complete Form ETA-790B; and (3) submit both forms to the SWA.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0134.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension without changes.

Title of Collection: Agricultural Recruitment System Forms Affecting Migratory Farm Workers.

Form: ETA-790 and ETA-790B.

OMB Control Number: 1205-0134.

Affected Public: Individuals or Households; State, Local, and Tribal Governments; Private Sector.

Estimated Number of Respondents: 852.

Frequency: Varies.

Total Estimated Annual Responses: 852.

Estimated Average Time per Response: Varies.

Estimated Total Annual Burden Hours: 2,981.84 hours.

Total Estimated Annual Other Cost Burden: $0.00.

Brent Parton,
Acting Assistant Secretary for Employment and Training, Labor.

[FR Doc. 2023-07430 Filed 4-7-23; 8:45 am]

BILLING CODE 4510-FN-P